DEPARTMENT OF HEALTH AND HUMAN SERVICES

Centers for Disease Control and Prevention

[30Day-04-0493]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an email to omb@cdc.gov. Send written comments to CDC Desk Officer, Human Resources and Housing Branch, New Executive Office Building, Room 10235, Washington, DC 20503 or by fax to (202) 395-6974. Written comments should be received within 30 days of this notice.

Proposed Project

The National School-based Youth Risk Behavior Survey, OMB No. 0920-0493—Reinstatement with change—National Center for Chronic Disease Prevention and Health Promotion (NCCDPHP), Centers for Disease Control and Prevention (CDC).

The purpose of this request is to renew OMB clearance to continue an ongoing biennial survey among high school students attending regular public, private, and Catholic schools in grades 9-12. Data will be collected in the Spring of 2005 and the Spring of 2007 to assess priority health risk behaviors related to the major preventable causes of mortality, morbidity, and social problems among both youth and adults in the U.S. OMB clearance for the 2003 Youth Risk Behavior Survey (OMB No. 0920-0493) expired November 2003.

Data on the health risk behaviors of adolescents is the focus of approximately 40 national health objectives in Healthy People 2010. The Youth Risk Behavior Survey provides data to measure at least 10 of these health objectives and 3 of the 10 Leading Health Indicators. In addition, the Youth Risk Behavior Survey can identify racial and ethnic disparities in health risk behaviors. No other national source of data measures as many of the 2010 objectives that address behaviors of adolescents. The data will also have significant implications for policy and program development for school health programs nationwide. There are no costs to respondents. The estimated annualized burden over the three-year period is 6,115 hours.

Respondents | Number of respondents (05-07) | Number of responses per respondent | Average burden per response (in hrs)
High School Students | 8,000 | 1 | 45/60
School Administrators | 230 | 1 | 30/60

Dated: October 4, 2004.
Alvin Hall,
Director, Management Analysis and Services Office, Centers for Disease Control and Prevention.

[FR Doc. 04-22713 Filed 10-7-04; 8:45 am]

BILLING CODE 4163-18-P